ENVIRONMENTAL PROTECTION AGENCY

[FRL-9906-83-OEI; EPA-HQ-OEI-2013-0731]

Creation of a New System of Records Notice: My Workplace

AGENCY: Environmental Protection Agency.

ACTION: Notice.

SUMMARY: The U.S. Environmental Protection Agency's (EPA) Office of Environmental Information (OEI) is giving notice that it proposes to create a new system of records pursuant to the provisions of the Privacy Act of 1974 (5 U.S.C. 552a). EPA is implementing the My Workplace system of records utilizing Microsoft Office 365 and SharePoint Online to deliver a cost effective, user-friendly, collaboration solution that will enhance productivity by facilitating communication, coordination and collaboration Agency-wide.

DATES: Persons wishing to comment on this system of records notice must do so by March 31, 2014.

ADDRESSES: Submit your comments, identified by Docket ID No. EPA-HQ-OEI-2013-0731, by one of the following methods:

• www.regulations.gov: Follow the online instructions for submitting comments.

• Email: oei.docket@epa.gov.

• Fax: 202-566-1752.

• Mail: OEI Docket, Environmental Protection Agency, Mail code: 2822T, 1200 Pennsylvania Ave. NW., Washington, DC 20460.

• Hand Delivery: OEI Docket, EPA/DC, WJC West Building, Room 3334, 1301 Constitution Ave. NW., Washington, DC. Such deliveries are only accepted during the docket's normal hours of operation, and special arrangements should be made for deliveries of boxed information. For more information, go to http://www.epa.gov/epahome/dockets.htm.

Instructions: Direct your comments to Docket ID No. EPA-HQ-OEI-2013-0731. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information is not publicly available (e.g., CBI or other information for which disclosure is restricted by statute). Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday, excluding legal holidays. The telephone numbers for the Public Reading Room and the OEI Docket are (202) 566-1744 and (202) 566-1752, respectively.

FOR FURTHER INFORMATION CONTACT: Lin Darlington, Associate Chief, Policy and Program Management Branch, Office of Information Analysis and Access, Office of Environmental Information, 202-566-0696.

SUPPLEMENTARY INFORMATION:

General Information

EPA proposes to create a new system of records under the Privacy Act to enhance the Agency's communication and collaboration environment. EPA is implementing My Workplace, utilizing Microsoft Office 365 and SharePoint Online, to deliver a cost effective, user-friendly, agency-wide collaboration solution that will help transform the way employees work at EPA. My Workplace will enhance productivity by making it easier for the Agency's multi-disciplinary, geographically dispersed workforce stay better informed by facilitating communication, coordination, collaboration and innovation, thus allowing EPA to deliver better on its mission of protecting human health and the environment.

The My Workplace collaboration tool will contain information about employees obtained from other Agency systems (e.g., name, user id, work phone number) or voluntarily provided by the users (e.g., home phone number, home address). The system will contain employees' names, user identification numbers, telephone numbers, office numbers and locations, organizational information, skill sets, education and experience. This information will be used to foster communication and enhance the ability of employees to locate individuals with relevant experience and skill sets.

EPA plans to use a feature of the system that consists of personalized profiles for each employee as an Agency directory to help connect subject matter experts to Agency projects. The profiles will include work-related information (office location, office phone number) as well as optional information voluntarily provided by the employee such as work experience and educational history or photographs. The use of the profile will improve information sharing and collaboration among colleagues and make it easier for EPA staff to locate the knowledge skills and abilities required for Agency projects and initiatives.

My Workplace will use Lync, an instant messaging and video conferencing tool, to promote discussion and communication through instant messaging and online meetings. Lync will include the information contained in the personalized profiles and will temporarily display additional information about a user's presence or status, based on the user's online activity, (e.g., “user has been away for 20 minutes”). This feature is active by default, but users may disable it. Users will also have the option of posting a personalized status message for other users to see on their profile. The information for both Lync and the personalized profiles will be stored in Microsoft's Shared Government Cloud and will be accessible by users of the system. Initial profile information will be populated using EPA's existing directory information; however, users will have the ability to update and manage their profiles.

My Workplace will allow users to establish team collaboration workspaces; facilitate sharing of documents, policies and information; and network through the SharePoint features. The SharePoint environment will include Agency policies, procedures, forms, organization charts, links to other sites that are helpful for users, and links to other EPA SharePoint sites containing shared documents and other information. Sharepoint will include content on program and regional offices, services and support, and projects and activities. My Workplace will include a directory of all users, including contact information, titles and professional business information. Users will be able to set up a personal profile, upload pictures, and publish content and messages that are similar to email. My Workplace will also allow employees to join groups, connect with colleagues, receive newsfeeds when new information is posted, and identify colleagues with specialized knowledge and/or expertise to participate in collaborative efforts. Employees will also be able to use their profiles to apply to participate on virtual collaboration projects and teams.

The system will be managed and maintained by EPA's Office of Environmental Information.

EPA-64

System Name:

My Workplace

System Location:

Environmental Protection Agency (EPA), Office of Environmental Information (OEI), 1200 Pennsylvania Ave. NW., Washington, DC 20460.

Categories of Individuals Covered by the System:

EPA employees, contractors on the EPA network and invited stakeholders, including but not limited to grantees, contractors, other federal or state officials, and industry partners.

Categories of Records in the System:

For EPA employees this includes, but is not limited to, user name, common name or nickname, email address, organization, supervisor name, subordinates, office telephone, telework telephone, government cell phone number, fax number, personal cell phone, home phone, blackberry PIN, building location, office location, mail code, mailing address, courier address, home address, employee's title or position classification, other position title, professional affiliation, clearances, skills, disciplines with experience and knowledge, current and past projects and work activities, membership in inter-Agency or intra-agency formal workgroups or informal communities of practice, membership in professional associations, education, certifications, publications, detail status and photograph. Additionally, users of Lync may have status information, personalized messages and photographs.

Authority for Maintenance of the System:

5 U.S.C. 301, 40 U.S.C. 11315, 44 U.S.C. 3506.

Purpose(s):

To enhance and improve efficiencies in the dissemination and exchange of information within the EPA and allow colleagues to more easily connect with each other.

Routine Uses of Records Maintained in the System, Including Categories of Users and the Purposes of Such Uses:

EPA's General Routine Uses: A, C, D, E, F, G, H, J, K, L apply to this system. Please refer to http://www.epa.gov/privacy/notice/general.htm for a full explanation of these routine uses.

Policies and Practices for Storing, Retrieving, Accessing, Retaining, and Disposing of Records in the System:

Storage:

Computer records are stored on a secure server and accessed over the Web via encryption software. Paper records, when created, are kept in file folders and cabinets in secure rooms. When individuals download information, it is stored on encrypted, password secured Agency computers. All records will have appropriate administrative, technical and physical safeguards to ensure their security and confidentiality.

Retrievability:

Information is retrievable by name of the user; organizational information is retrievable by organization name.

Safeguards:

Records in the system are protected from unauthorized access and misuse through various administrative, technical and physical security measures. Technical security measures within EPA include restrictions on computer access to authorized individuals, required use of strong passwords that are frequently changed, use of encryption for certain data types and transfers, and regular review of security procedures and best practices to enhance security. Physical measures include restrictions on building access to authorized individuals, only, and by maintaining records in lockable offices and filing cabinets.

Retention and Disposal:

The records will be managed in accordance with EPA retention schedule 129, Item b.

System Manager(s) and Address:

Lin Darlington, Office of Environmental Information, 1200 Pennsylvania Ave. NW., Washington, DC 20460.

Notification Procedures:

Requests to determine whether this system of records contains a record pertaining to you must be sent to the Agency's Freedom of Information Office. The address is U.S. Environmental Protection Agency; 1200 Pennsylvania Ave. NW., Room 6416, WJC West, Washington, DC 20460; (202) 566-1667; Email: (hq.foia@epa.gov); Attn: Privacy Act Officer.

Record Access Procedure:

Individuals seeking access to their own personal information in this system of records are required to provide adequate identification (e.g., driver's license, military identification card, employee badge or identification card and, if necessary, proof of authority). Additional identity verification procedures may be required as warranted. Requests must meet the requirements of EPA regulations at 40 CFR part 16.

Contesting Records Procedure:

Requests for correction or amendment must identify the record to be changed and the corrective action sought. Requests must be submitted to the Agency contact indicated on the initial document for which the related contested record was submitted.

Record Source Categories:

The sources for information in the system are the individuals about whom the records are maintained and other EPA information systems.

Systems Exempted From Certain Provisions of the Act:

None.

Dated: November 20, 2013.
Renee P. Wynn,
Acting Assistant Administrator, and Acting Chief Information Officer.

[FR Doc. 2014-03431 Filed 2-14-14; 8:45 am]

BILLING CODE 6560-50-P